FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than October 24, 2024.

A. Federal Reserve Bank of Chicago (Colette A. Fried, Assistant Vice President) 230 South LaSalle Street, Chicago, Illinois 60690-1414. Comments can also be sent electronically to Comments.applications@chi.frb.org:

1. The James D. Ruge Revocable Trust dated 3/28/2013, James Ruge, as trustee, both of Beverly Shores, Indiana; Thomas Ruge, Monrovia, Indiana; FBO Thomas R. Ruge IRA, Thomas Ruge, as beneficiary, both of Monrovia, Indiana; The Kathleen A. Scott Family Wealth Trust dated 11/22/2016, Kathleen Scott, as trustee, both of Fairport, New York; The Ruge Trust dated 6/01/2016, Dawn Ruge, as trustee, both of Burns Harbor, Indiana; Pamela Strudas and Jacqueline Ruge-Perkins, both of Chesterton, Indiana; Ana Ruge-Rodela, Elgin, Illinois; Celina Clements, Mooresville, Indiana; Margaret McLaughlin, Andover, Massachusetts; Dawn Hernandez, Naples, Florida; the Michael and Suzanne Mahaffey Revocable Trust dated 1/21/2022, Michael Mahaffey and Suzanne Mahaffey, as trustees, all of Porter, Indiana; and Roy Krizek, Beverly Shores, Indiana; to join the Ruge Family Control Group, a group acting in concert, to retain voting shares of the First State Bank of Porter, Porter, Indiana.

Board of Governors of the Federal Reserve System.
Erin Cayce,
Assistant Secretary of the Board.

[FR Doc. 2024-23352 Filed 10-8-24; 8:45 am]

BILLING CODE P